GOVERNMENT PRINTING OFFICE

Depository Library Council to the Public Printer Meeting

The Depository Library Council to the Public Printer (DLC) will meet on Monday, March 31, 2008, through Wednesday, April 2, 2008, at Westin Crown Center, located in Kansas City, MO. The sessions will take place from 8 a.m. to 5 p.m. Monday through Wednesday. The meeting will be held at the Westin Crown Center, One Pershing Road, Kansas City, MO.

The purpose of this meeting is to discuss the Federal Depository Library Program. All sessions are open to the public. The sleeping rooms available at the Westin Crown Center will be at the Government rate of $103.00 (plus applicable state and local taxes, currently 15.22%) a night for a single or double. The Westin Crown Center is in compliance with the requirements of Title III of the Americans with Disabilities Act and meets all Fire Safety Act regulations.

Robert C. Tapella,
Public Printer of the United States.

[FR Doc. 08-945 Filed 3-5-08; 8:45 am]

BILLING CODE 1520-01-M